DEPARTMENT OF THE INTERIOR

National Park Service

[Account No. 3950-SZM]

President's Park—Environmental Assessment for Proposed Permanent Roadway Closures, Re-Design of Security Elements, and Preservation of Historic Landscape

AGENCY: National Park Service, Department of the Interior.

ACTION: Notice of Intent to Prepare an Environmental Assessment by the National Park Service and the United States Secret Service, and notice of scoping for re-designing the security elements and preserving the landscape within President's Park South, which includes a portion of E Street, NW., in Washington, DC.

SUMMARY: The proposed actions are as follows: The United States Secret Service deciding whether to permanently close (1) the section of E Street, NW. between 15th and 17th Streets, NW., South Executive Avenue, and the Ellipse roadways to unauthorized vehicular traffic, and (2) State Place and West South Executive Avenue and adjacent sidewalks (contiguous to First Division Monument) and Hamilton Place and East South Executive Avenue and adjacent sidewalks (contiguous to Sherman Park) to unauthorized vehicular and unauthorized pedestrian traffic, and to install durable, more aesthetic security elements in the area to replace the temporary, unsightly security elements currently in place; and the National Park Service deciding on landscape and infrastructure changes to the area that respond to the street closures and re-design of security elements to ensure the iconic historic nature of the landscape that is the White House and its environs and an important destination for visitors.

DATES: Comments should be received within 45 days of this notice.

ADDRESSES: Comments may be submitted electronically through the NPS' Planning, Environment and Public Comment (PEPC) Web site at http://parkplanning.nps.gov/PRPA (The NPS preferred method of receiving comments), or by mail to: Office of the National Park Service Liaison to the White House, 1100 Ohio Drive, SW., Room 344, Washington, DC 20242.

FOR FURTHER INFORMATION CONTACT: The NPS may be contacted at the Office of the National Park Service Liaison to the White House, 1100 Ohio Drive, SW., Washington, DC 20242, (202) 619-6344. To be added to a mailing list about the proposed actions, contact the NPS at (202) 619-6344.

SUPPLEMENTARY INFORMATION: In accordance with the National Environmental Policy Act, 42 U.S.C. 4321, (NEPA), and applicable regulations and policies, the National Park Service (NPS) and the United States Secret Service (USSS), as joint lead agencies, are preparing an Environmental Assessment (EA). The EA will aid the USSS in deciding whether to permanently close E Street, South Executive Avenue, and the Ellipse roadways within President's Park South to unauthorized vehicular traffic, and State Place and West South Executive Avenue and adjacent sidewalks (contiguous to First Division Monument) and Hamilton Place and East South Executive Avenue and adjacent sidewalks (contiguous to Sherman Park) to unauthorized vehicular and unauthorized pedestrian traffic. The EA will further inform the USSS as it considers replacing existing security elements in the area, such as jersey barriers, provisional guard booths, canopy tents, bike rack, concrete planters and standing canine vehicles. These security elements, while effective, are visually unattractive and may detract from the iconic and historic nature of the area. The USSS would seek to install security elements that are both durable and more aesthetic at the vehicle checkpoints and along the street closures. The NPS will utilize the EA to assist in its consideration of landscape and infrastructure changes to President's Park South that respond to USSS security requirements and conform to the area's historic features, its iconic status and popularity as a visitor destination. The National Capital Planning Commission (NCPC) is a cooperating agency in this EA and is assisting in the development of potential alternatives by holding a limited competition for design concepts that integrate USSS security requirements and NPS cultural landscape preservation policies and guidelines.

Other government agencies are invited to serve as cooperating agencies. Interested agencies are asked to contact the Office of the National Park Service Liaison to the White House at (202) 619-6344 at the NPS as early as possible in this process. Compliance with the National Historic Preservation Act (NHPA), including NHPA Section 106, and other laws and requirements, will be coordinated with this EA process, and government agencies that are affected by the proposed actions or have special expertise will be consulted, whether or not they are cooperating agencies.+

This notice also serves as an announcement of scoping on both proposed actions, and comments are sought from the public, government agencies and other interested persons and organizations. Scoping is used to gain insight into the issues to be addressed and to identify other significant issues related to the proposed actions. For comments to be most helpful to the scoping process, they must be received within 45 days of this notice.

During scoping, a public meeting will be held on Thursday, March 31, 2011, to present information and obtain input from attendees. The meeting will be held from 6:30 p.m. to 8:30 p.m. at the White House Visitor Center located at 1450 Pennsylvania Avenue South, NW., Washington, DC. At the meeting, the NPS and USSS will describe the proposed actions and how the planning will be conducted, and NCPC will describe the design concepts competition it is conducting. All comments submitted during scoping, including at the meeting, will be considered by both the NPS and USSS. If you require additional information or special assistance to attend and participate in this meeting, please contact the Office of the National Park Service Liaison to the White House at (202) 619-6344.

Before including your address, phone number, e-mail address, or other personal identifying information in your comment, be advised that your entire comment —including your personal identifying information —may be made publicly available at any time. While you can ask in your comment to withhold from public review your personal identifying information, we cannot guarantee that we will be able to do so.

There is always the possibility that the NPS and USSS might proceed to prepare an Environmental Impact Statement (EIS) for the proposed actions instead of an EA. If this occurs, comments submitted now will be considered for any EIS that is developed.

NEPA regulations and policies encourage agencies to collaborate or otherwise use the same NEPA analysis to avoid duplications of effort, to reduce paperwork, and to prevent delays in decision-making. The proposed actions grow out of needs identified by USSS concerning the level and type of security required for the White House. The NPS and USSS seek to re-design the security elements in this space and preserve the landscape to create a visitor and pedestrian-friendly, elegant and beautiful environment that is respectful of its historic context and iconic status, while continuing to meet USSS security needs. President's Park South is part of the National Park System unit and includes Sherman Park, First Division Monument, the Ellipse and its side panels, as well as the associated roadways in the area. These places, along with other site features, are listed on the National Register of Historic Places. The NPS manages President's Park South pursuant to its statutory authorities, regulations and policies, the Comprehensive Design Plan for the White House and President's Park (2000) (Plan), the Design Guidelines for the White House and President's Park (1997), and in light of the area's National Register status. The section of E Street, NW. within this park area is also administered by NPS.

Following the events of September 11, 2001, USSS temporarily closed the section of E Street, NW. within President's Park South to unauthorized vehicular traffic. To secure this general area, USSS placed a line of jersey barriers along the southern edge of E Street and installed provisional guard booths, canopy tents, bike rack, concrete planters and standing canine vehicles at vehicle checkpoints at the east and west ends of E Street. A vehicle check point was also placed at the 16th Street and Constitution Avenue entrance to the Ellipse. Since that time there has been a continued, temporary closure of the roadways to unauthorized vehicular traffic. The USSS will determine whether to change the status of the closure from temporary to permanent and to integrate durable, more aesthetic security elements in place of the temporary security elements identified above.

The intent is to integrate durable, more aesthetic security elements that not only help satisfy the requirement to maintain the historic and iconic character of President's Park South, but also improve the experience of visitors moving through the area to enter or view the White House and its grounds.

The EA will assess a range of alternatives establishing a permanent closure of E Street and associated roadways and the installation of re-designed security elements resulting in changes to the area, along with a no-action alternative for continuing the current closure using the existing, temporary security elements. The Plan was developed as an EIS and it will serve as a foundation for this EA, and the EA will also review the Plan's treatment of President's Park South.

In 2008, the NCPC Security Task Force recommended, and the NPS and USSS agreed, that NCPC, through its Task Force, would manage a limited competition to generate creative and thoughtful design concepts that incorporate necessary USSS security elements while improving the experience of visitors moving through the area to enter or view the White House and its grounds. The NCPC is a Federal agency whose mission includes serving as the central planning agency for the Federal activities in the greater Washington, DC area. The design concepts generated through this process may become alternatives in the EA.

Dated: December 22, 2010.
Peggy O'Dell,
Regional Director, National Capital Region.

[FR Doc. 2011-5253 Filed 3-7-11; 8:45 am]

BILLING CODE 4312-54-P